ENVIRONMENTAL PROTECTION AGENCY

40 CFR Parts 52 and 81

[EPA-R05-OAR-2009-0839; FRL-9489-6]

Approval and Promulgation of Air Quality Implementation Plans; Indiana; Redesignation of the Indianapolis Area to Attainment of the 1997 Annual Standard for Fine Particulate Matter

AGENCY: Environmental Protection Agency (EPA).

ACTION: Withdrawal of direct final rule.

SUMMARY: Due to the receipt of adverse comments, EPA is withdrawing the September 27, 2011 (76 FR 59512), direct final rule approving Indiana's request to redesignate the Indianapolis, Indiana nonattainment area (Hamilton, Hendricks, Johnson, Marion, and Morgan Counties) to attainment for the 1997 annual National Ambient Air Quality Standard for fine particulate matter (PM2.5). In the direct final rule, EPA stated that if adverse comments were received by October 27, 2011, the rule would be withdrawn and not take effect. EPA has received adverse comments from three commenters and, therefore, is withdrawing the direct final rule. EPA will address the comments in a subsequent final action based upon the proposed action, also published on September 27, 2011 (76 FR 59599). EPA will not institute a second comment period on this action.

DATES: The direct final rule published at 76 FR 59512 on September 27, 2011, is withdrawn as of November 14, 2011.

FOR FURTHER INFORMATION CONTACT: Kathleen D'Agostino, Environmental Engineer, Attainment Planning and Maintenance Section, Air Programs Branch (AR-18J), Environmental Protection Agency, Region 5, 77 West Jackson Boulevard, Chicago, Illinois 60604, (312) 886-1767, dagostino.kathleen@epa.gov.

List of Subjects

40 CFR Part 52

Environmental protection, Air pollution control, Incorporation by reference, Intergovernmental relations, Particulate matter.

40 CFR Part 81

Air pollution control, National parks, Wilderness areas.

Authority: 42 U.S.C. 7401 et seq.

Dated: November 2, 2011.
Susan Hedman,
Regional Administrator, Region 5.

PART 52--[AMENDED]

Accordingly, the amendment to 40 CFR 52.776 published in the Federal Register on September 27, 2011 (76 FR 59512) on page 59526 is withdrawn as of November 14, 2011.

PART 81--[AMENDED]

Accordingly, the amendment to 40 CFR 81.315 published in the Federal Register on September 27, 2011 (76 FR 59512) on page 59526 is withdrawn as of November 14, 2011.

[FR Doc. 2011-29177 Filed 11-10-11; 8:45 am]

BILLING CODE 6560-50-P